DEPARTMENT OF DEFENSE

Office of the Secretary

[Docket ID: DoD-2023-OS-0035]

Privacy Act of 1974; System of Records

AGENCY: Department of Defense (DoD).

ACTION: Notice of a new system of records.

SUMMARY: In accordance with the Privacy Act of 1974, the DoD is establishing a new Department-wide system of records titled, “DoD Claims Management Records,” DoD-0016. This system of records covers records concerning the investigation, adjudication, and settlement of claims against or by the DoD.

DATES: This system of records is effective upon publication; however, comments on the Routine Uses will be accepted on or before May 26, 2023. The Routine Uses are effective at the close of the comment period.

ADDRESSES: You may submit comments, identified by docket number and title, by any of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Privacy and Civil Liberties Division, Directorate for Privacy, Civil Liberties and Freedom of Information, Office of the Assistant to the Secretary of Defense for Privacy, Civil Liberties, and Transparency, Department of Defense, 4800 Mark Center Drive, Mailbox #24, Suite 08D09, Alexandria, VA 22350-1700; OSD.DPCLTD@mail.mil; (703) 571-0070.

SUPPLEMENTARY INFORMATION:

I. Background

DoD is establishing the “DoD Claims Management Records,” DoD-0016, as a DoD-wide Privacy Act system of records. A DoD-wide system of records notice (SORN) supports multiple DoD paper or electronic recordkeeping systems operated by more than one DoD component that maintain the same kind of information about individuals for the same purpose. Establishment of DoD-wide SORNs helps the DoD standardize the rules governing the collection, maintenance, use, and sharing of personal information in key areas across the enterprise. DoD-wide SORNs also reduce duplicative and overlapping SORNs published by separate DoD components. The creation of DoD-wide SORNs is expected to make locating relevant SORNs easier for DoD personnel and the public and create efficiencies in the operation of the DoD privacy program.

The purpose of this SORN is to manage records collected, maintained, and disseminated by a DoD Component for addressing personnel and general claims both for and against the Department. This system of records covers all stages in the claims process to include notification, investigation, adjudication, negotiation, and resolution. These records may include information about claimants and their attorneys or representatives; including those with an affiliation to the DoD such as uniformed service personnel and their family members, civilian personnel, and contractors. The records may also include members of the public who have a physical or legal affiliation with the DoD and information about other persons with information pertinent to the claims adjudication process, such as witnesses, or state and local government officials.

DoD SORNs have been published in the Federal Register and are available from the address in FOR FURTHER INFORMATION CONTACT or at the Privacy, Civil Liberties, and FOIA Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, the DoD has provided a report of this system of records to the OMB and to Congress.

Dated: April 20, 2023.
Aaron T. Siegel,
Alternate OSD Federal Register Liaison Officer, Department of Defense.

SYSTEM NAME AND NUMBER:

DoD Claims Management Records, DoD-0016.

SECURITY CLASSIFICATION:

Unclassified.

SYSTEM LOCATION:

Department of Defense (Department or DoD), located at 1000 Defense Pentagon, Washington, DC 20301-1000, and other Department installations, offices, or mission locations. Information may also be stored within a government-certified cloud, implemented, and overseen by the Department's Chief Information Officer (CIO).

SYSTEM MANAGER(S):

The system managers for this system of records are as follows:

A. The United States Air Force Judge Advocate General's Corps, Air Force Claims Service Center, 1940 Allbrook Drive, Bldg. 1 Suite 512, Wright-Patterson AFB, OH 45433, email: AFCSC.JA@us.af.mil.

B. United States Army Judge Advocate General's Corps, Claims Service, 4411 Llewellyn Avenue, Fort Meade, Maryland 20755, telephone number: 301-677-7009.

C. United States Navy and U.S. Marine Corps Office of the Judge Advocate General, Admiralty and Claims (Code 15), 1322 Patterson Ave., Suite 3000, Washington Navy Yard, DC 20374-5066, telephone number (202) 685-4600.

D. Director, Defense Legal Services Agency, Defense Office of Hearing and Appeals, Claims Division—Reconsideration, P.O. Box 3656, Arlington, Virginia 22203-1995, osd.pentagon.ogc.list.correspondence-staff@mail.mil. DOHA serves as the system manager for records produced as part of claims appeal activities.

E. Director, Defense Finance and Accounting Services, Debt and Claims Department, 8899 East 56th Street, Indianapolis, IN 46249-2700, telephone number (866) 912-6488.

F. To obtain information on the system managers at the Combatant Commands, Defense Agencies, or other Field Activities with oversight of the records, please visit www.FOIA.gov to contact the component's Freedom of Information Act (FOIA) office.

AUTHORITY FOR MAINTENANCE OF THE SYSTEM:

10 U.S.C. 113, Secretary of Defense; 10 U.S.C. Chapter 163, Military Claims (General Military Law); 10 U.S.C. Chapter 781, Military Claims (Army); 10 U.S.C. Chapter 881, Claims (Navy and Marine Corps); 10 U.S.C. Chapter 981, Military Claims (Air Force); 10 U.S.C. Chapter 55, Medical and Dental Care; 10 U.S.C. 2782, Damage to Real Property: Disposition of Amounts Recovered; 28 U.S.C. 514, Legal Services on Pending Claims in Departments and Agencies; 28 U.S.C. Chapter 161, United States as Party Generally; 28 U.S.C. Chapter 163, Fines, Penalties, and Forfeitures; 28 U.S.C. Chapter 171, Tort Claims Procedure; 28 U.S.C. Chapter 176, Federal Debt Collection Procedure; 28 U.S.C. 1498, Patent and Copyright Cases; 28 U.S.C. 2672, Administrative Adjustment of Claims; 31 U.S.C. Chapter 37, Claims; 31 U.S.C. Chapter 33, Subchapter II, Payments; 32 U.S.C. 715, Property loss; personal injury or death: activities under certain sections of this title; 32 U.S.C. 716, Claims for overpayment of pay and allowances, and travel and transportation allowances; 42 U.S.C. Chapter 32, Third Party Liability for Hospital and Medical Care; Department of Defense Directive 5515.09, Settlement of Tort Claims; 32 CFR part 281, Settling Personnel and General Claims and Processing Advance Decision Requests; 32 CFR part 282, Procedures for Settling Personnel and General Claims and Processing Advance Decision Requests; 32 CFR part 752, Admiralty Claims; Department of Defense Instruction 1340.21, Procedures for Settling Personnel and General Claims and Processing Advance Decision Requests; and E.O. 9397 (SSN), as amended.

PURPOSE(S) OF THE SYSTEM:

A. To process claims against or by DoD from notice through investigation, adjudication, and decision;

B. To determine validity, timeliness, appropriate legal authority and assignment of responsibility within the DoD Components to accept or deny claims.

C. To collect, maintain and preserve information associated with a claim for the processing and adjudication of the case.

D. To identify, recover, and/or collect funds or property deemed by an authorized official as appropriate compensation for claims made on behalf of the DoD (or DoD Component).

E. To conduct oversight and audit activities, to include budgeting, and management of claims and to support statistical analysis to include evaluating claims program effectiveness and conducting research.

F. To support and assist the Department of Justice when representing the DoD, resulting from a claim referred to litigation.

CATEGORIES OF INDIVIDUALS COVERED BY THE SYSTEM:

All individuals who file claims against or on behalf of the DoD or a component of the DoD, or non-DoD component by agreement with the Department, including uniformed Service members and their family members, civilian personnel, non-appropriated fund employees and the DoD personnel employed or assigned outside of the contiguous United States hires, also known as local national employees, contractors, and members of the public. Individuals against whom DoD has filed a claim or taken other action to collect a debt owed by the individual to the DoD. The records may also contain information about other individuals who are not covered by the system of records, such as witnesses and third parties who may have information relevant to a claim; attorneys, legal personnel, and other representatives; or others with relevant information.

Note: This system of records also applies to the Coast Guard when it is not operating as a Service in the Navy under agreement with the Department of Homeland Security, the Commissioned Corps of the Public Health Service (PHS) under agreement with the Department of Health and Human Services, and the National Oceanic and Atmospheric Administration (NOAA) under agreement with the Department of Commerce (hereafter referred to collectively as “the non-DoD Components”).

CATEGORIES OF RECORDS IN THE SYSTEM:

A. Personal Information such as: name, DoD ID number; employee ID number; Social Security number; date of birth; physical and email addresses; phone numbers; place of birth; citizenships; medical information/medical records; driver's license number; vehicle registration information; biographical data; financial and property information; and insurance information.

B. Employment Information such as: position/title, rank/grade, duty station; work address, email; military service records, pay and official travel records, and personnel records.

C. Information relevant to the claim such as: evidentiary data in any form (including papers, photographs, electronic recordings, electronic data, or video records), pleadings, legal findings (sentencing reports, court motions, hearing or court transcripts), correspondence, filings, and supporting documents; forms, evidentiary data, investigatory data from adverse actions or administrative actions; statements; investigative reports; and publicly available information.

RECORD SOURCE CATEGORIES:

Records and information stored in this system of records are obtained from:

A. Claimants and their representatives.

B. Witnesses and other organizations or individuals who may have information relevant to a claim.

C. Records from information systems under control of DoD Components (or Non-DoD Components by agreement).

D. Other record sources may include governmental entities (such as federal, state, local or foreign); law enforcement agencies; medical treatment facilities; and relevant records and reports in the Department of Defense; and publicly available information.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a Routine Use pursuant to 5 U.S.C. 552a(b)(3) as follows:

A. To contractors, grantees, experts, consultants, students, and others performing or working on a contract, service, grant, cooperative agreement, or other assignment for the federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection evaluation, or other review as authorized by the Inspector General Act of 1987, amended.

J. To such recipients and under such circumstances and procedures as are mandated by Federal statute, treaty, or international agreement.

K. To government contractors to evaluate, defend or settle actual or prospective claims filed against them, including recovery actions, arising out of the performance of a government contract.

L. To the Department of State or Department of Justice to evaluate, defend or settle an actual or prospective claim arising under the North Atlantic Treaty Organization (NATO) Status of Forces Agreement (SOFA); agreements supplemental to the NATO SOFA; and other international agreements with countries not covered by the NATO SOFA.

M. To foreign governments for use in negotiations or settlements of actual or prospective claims under the NATO SOFA or similar international agreements.

N. To private insurers regarding disposition of the relevant claim.

O. To the Internal Revenue Service for tax purposes from settlement of claims and transfer of payment to or from the Department of Defense.

P. To State and local taxing authorities, with which the Secretary of the Treasury has entered into agreements under 5 U.S.C. 5516, 5517, or 5520, to report taxable income.

Q. To financial institutions for the purpose of transferring claim payments to or from the Department of Defense.

POLICIES AND PRACTICES FOR STORAGE OF RECORDS:

Records may be stored electronically or on paper in secure facilities in a locked drawer behind a locked door. Electronic records may be stored locally on digital media; in agency-owned cloud environments; or in vendor Cloud Service Offerings certified under the Federal Risk and Authorization Management Program (FedRAMP).

POLICIES AND PRACTICES FOR RETRIEVAL OF RECORDS:

Records may be retrieved by an identifier or other criteria unique to the individual, such as the individual's name, and/or employee identification number. Information may be retrieved by Social Security number if the underlying system has been approved to do so in accordance with Department policy.

POLICIES AND PRACTICES FOR RETENTION AND DISPOSAL OF RECORDS:

Records concerning administrative claims by or against the United States are destroyed 7 years after final action, but longer retention is authorized if required for business use.

ADMINISTRATIVE, TECHNICAL, AND PHYSICAL SAFEGUARDS:

The DoD safeguards records in this system of records according to applicable rules, policies, and procedures, including all applicable DoD automated systems security and access policies. DoD policies require the use of controls to minimize the risk of compromise of personally identifiable information (PII) in paper and electronic form and to enforce access by those with a need to know and with appropriate clearances. Additionally, the DoD has established security audit and accountability policies and procedures which support the safeguarding of PII and detection of potential PII incidents. The DoD routinely employs safeguards such as the following to information systems and paper recordkeeping systems: Multifactor log-in authentication including Common Access Card (CAC) authentication and password; physical token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

RECORD ACCESS PROCEDURES:

Individuals seeking access to their records should follow the procedures in 32 CFR part 310. Individuals should address written inquiries to the DoD component with oversight of the records, as the component has Privacy Act responsibilities concerning access, amendment, and disclosure of the records within this system of records. The public may identify the contact information for the appropriate DoD office through the following website: www.FOIA.gov. Signed written requests should contain the name and number of this system of records notice along with the full name, current address, and email address of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

Individuals seeking to amend or correct the content of records about them should follow the procedures in 32 CFR part 310.

NOTIFICATION PROCEDURES:

Individuals seeking to determine whether information about themselves is contained in this system of records should follow the instructions for Record Access Procedures above.

EXEMPTIONS PROMULGATED FOR THE SYSTEM:

None.

HISTORY:

None.

[FR Doc. 2023-08752 Filed 4-25-23; 8:45 am]

BILLING CODE 5001-06-P